DEPARTMENT OF THE INTERIOR

National Park Service

[NPS-NCR-WHHO-WHHOA1-36321; PPNCWHHOA1; PPMPSPD1Z.YM0000]

Committee for the Preservation of the White House; Notice of Public Meeting

AGENCY: National Park Service, Interior.

ACTION: Meeting notice.

SUMMARY: In accordance with the Federal Advisory Committee Act of 1972, the National Park Service (NPS) is hereby giving notice that the Committee for the Preservation of the White House (Committee) will meet as indicated below.

DATES: The meeting will take place on Wednesday, September 6, 2023. The meeting will begin at 3:00 p.m. until 5:00 p.m. (Eastern).

ADDRESSES: The meeting will be held at the White House, 1600 Pennsylvania Avenue NW, Washington, DC 20500. The meeting will be open to the public, but subject to security clearance requirements.

FOR FURTHER INFORMATION CONTACT: Comments may be provided to: John Stanwich, Executive Secretary, Committee for the Preservation of the White House, 1849 C Street NW, Room #1426, Washington, DC 20240, by telephone (202) 219-0322, or by email ncr_whho_superintendent@nps.gov. Please make requests in advance for sign language interpreter services, assistive listening devices, or other reasonable accommodations at least seven (7) business days prior to the meeting to give the Department of the Interior sufficient time to process your request. All reasonable accommodation requests are managed on a case-by-case basis.

Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The Committee was established in accordance with Executive Order No. 11145, 3 CFR 184 (1964-1965), as amended. The Committee reports to the President of the United States and advises the Director of the NPS with respect to the discharge of responsibilities for the preservation and interpretation of the museum aspects of the White House pursuant to the Act of September 22, 1961 (Pub L. 87-286, 75 Stat. 586).

Purpose of the Meeting: The agenda will include time for discussion of policies related to the preservation and interpretation of the museum function of the White House, goals for the Committee moving forward, and long-range plans for the permanent collection of the White House.

If you plan to attend this meeting, you must register by close of business on Thursday, September 4, 2023. Please contact the Executive Secretary (see FOR FURTHER INFORMATION CONTACT) to register. Space is limited and requests will be accommodated in the order they are received.

The meeting will be open to the public, but subject to security clearance requirements. The Executive Secretary will contact you directly with the security clearance requirements. Inquiries may be made by calling the Executive Secretary between 9:00 a.m. and 4:00 p.m. weekdays at (202) 219-0322.

Written comments may be sent to the Executive Secretary, Committee for the Preservation of the White House (see FOR FURTHER INFORMATION CONTACT). All written comments received will be provided to the Committee.

Public Disclosure of Comments: Before including your address, phone number, email address, or other personal identifying information in your written comments, you should be aware that your entire comment—including your personal identifying information—may be made publicly available at any time. While you can ask us in your comment to withhold your personal identifying information from public review, we cannot guarantee that we will be able to do so.

(Authority: 5 U.S.C. Ch. 10.)

Alma Ripps,
Chief, Office of Policy.

[FR Doc. 2023-17663 Filed 8-16-23; 8:45 am]

BILLING CODE 4312-52-P